ENVIRONMENTAL PROTECTION AGENCY

[FRL-7064-7]

Agency Information Collection Activities: Submission for OMB Review; Comment Request; Reporting and Recordkeeping Requirements for Universal Waste Handlers and Destination Facilities

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Reporting and Recordkeeping Requirements for Universal Waste Handlers and Destination Facilities, ICR Number 1597.04, OMB Control Number 2050-0145, expiration date September 30, 2001. This ICR describes the nature of the information collection and its expected burden and cost; where appropriate, it includes the actual data collection instrument.

DATES: Comments must be submitted on or before October 25, 2001.

ADDRESSES: Send comments, referencing EPA ICR No. 1597.04 and OMB Control No. 2050-0145, to the following addresses: Sandy Farmer, U.S. Environmental Protection Agency, Collection Strategies Division (Mail Code 2822), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at Farmer.Sandy@epamail.epa.gov, or download off the Internet at http://www.epa.gov/icr and refer to EPA ICR No. 1597.04. For technical questions about the ICR contact Tab Tesnau by phone at (703) 605-0636 or by E-mail at tesnau.tab@epa.gov.

SUPPLEMENTARY INFORMATION: Title: Reporting and Recordkeeping Requirements for Universal Waste Handlers and Destination Facilities (OMB Control Number 2050-0145; ICR Number 1597.04) expiring September 30, 2001. This is a request for extension of a currently approved collection.

Abstract: The universal waste regulations at 40 CFR part 273 were promulgated by EPA under the authority of Subtitle C in Resource Conservation and Recovery Act (RCRA). This information collection targets the collection of information for the following reporting or recordkeeping requirements: notification, labeling and marking, storage time limitations, off-site shipments, tracking of universal waste shipments, and petitions to include other waste categories at the federal level. It is necessary for EPA to collect universal waste information to ensure that universal waste is collected and managed in a manner that is protective of human health and the environment. EPA requires, among other things, Large Quantity Handlers of Universal Waste (LQHUW) to notify the Agency of their universal waste management activities so that EPA can obtain general information on these handlers, and to facilitate enforcement of the regulations at part 273. In addition, EPA requires universal waste handlers to record the date on which they begin storing universal waste on-site to ensure that such accumulation is performed responsibly. EPA also requires certain universal waste handlers to track receipt of universal waste shipments as well as shipments sent off-site to ensure that universal waste is properly treated, recycled, and disposed. Finally, the submission of petitions in support of regulating other wastes or waste categories under part 273 helps EPA (1) to compile information on these wastes, and (2) to determine whether regulation as a universal waste is appropriate. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on March 27, 2001 (66 FR 16672); no comments were received.

Burden Statement: The annual public reporting and record keeping burden for this collection of information in hours per response is estimated to average 1 hour for Small Quantity Handlers of Universal Waste (SQHUW), 3 hours for Large Quantity Handlers of Universal Waste (LQHUW), and 201 hours for destination facilities. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: SQHUWs, LQHUWs, and Destination Facilities.

Estimated Number of Respondents: 129,839.

Frequency of Response: As needed.

Estimated Total Annual Hour Burden: 218,168 hours.

Estimated Total Annualized Capital, O&M Cost Burden: $3,317.

Send comments on the Agency's need for this information, the accuracy of the provided burden estimates, and any suggested methods for minimizing respondent burden, including through the use of automated collection techniques to the addresses listed above. Please refer to EPA ICR No. 1597.04 and OMB Control No. 2050-0145 in any correspondence.

Dated: September 13, 2001.
Oscar Morales,
Director, Collection Strategies Division.

[FR Doc. 01-23914 Filed 9-24-01; 8:45 am]

BILLING CODE 6560-50-P